DEPARTMENT OF THE INTERIOR

Bureau of Land Management

[WO-260-09-1060-00-24 1A]

Call for Nominations for the Wild Horse and Burro Advisory Board

AGENCY: Bureau of Land Management, Interior.

ACTION: Notice of Wild Horse and Burro Advisory Board call for nominations.

SUMMARY: The purpose of this notice is to solicit public nominations for three members to the Wild Horse and Burro Advisory Board. The Board provides advice concerning management, protection and control of wild free-roaming horses and burros on the public lands administered by the Department of the Interior, through the Bureau of Land Management, and the Department of Agriculture, through the Forest Service.

DATES: Nominations should be submitted to the address listed below no later than July 14, 2006.

ADDRESSES: National Wild Horse and Burro Program, Bureau of Land Management, Department of the Interior, P.O. Box 12000, Reno, Nevada 89520-0006, Attn: Ramona Delorme; fax 775-861-6618.

FOR FURTHER INFORMATION CONTACT: Jeff Rawson, Division Chief, Wild Horse and Burro Division, (202) 452-0379. Individuals who use a telecommunications device for the deaf (TDD) may contact Mr. Rawson at any time by calling the Federal Information Relay Service at 1-800-877-8339.

SUPPLEMENTARY INFORMATION: The Wild Free-Roaming Horses and Burros Act (16 U.S.C. 1331, et seq.) directs the Secretary of the Interior and the Secretary of Agriculture to appoint a joint advisory board of not more than nine members to advise them on any matter relating to wild-free roaming horses and burros and their management and protection. Nominations for a term of three years are needed to represent the following categories of interest:

Natural Resource Management

Livestock Management

Wild Horse and Burro Research

Any individual or organization may nominate one or more persons to serve on the Wild Horse and Burro Advisory Board. Individuals may also nominate themselves for Board membership. All nomination letters/or resumes should include the nominees': (1) Name, address, phone, and e-mail address if applicable; (2) category(s) for consideration (i.e. natural resource management, livestock management or wild horse and burro research; (3) present occupation; (4) explanation of qualifications to represent their designated constituency; (5) nominating organization, individual or by self; and (6) list of references and letters of endorsement by qualified individuals.

As appropriate, certain Board members may be appointed as Special Government Employees. Special Government Employees serve on the board without compensation, and are subject to financial disclosure requirements in the Ethics in Government Act and 5 CFR part 2634. Nominations are to be sent to the address listed under ADDRESSES, above.

Each nominee will be considered for selection according to their ability to represent their designated constituency, analyze and interpret data and information, evaluate programs, identify problems, work collaboratively in seeking solutions and formulate and recommend corrective actions. Pursuant to section 7 of the Wild Free-Roaming Horses and Burros Act, Members of the Board cannot be employed by either Federal or State Government. Members will serve without salary, but will be reimbursed for travel and per diem expenses at current rates for Government employees. The Board will meet no less than two times annually. The Director, Bureau of Land Management may call additional meetings in connection with special needs for advice.

Dated: May 1, 2006.
Ed Shepard,
Assistant Director, Renewable Resources and Planning.

[FR Doc. E6-9260 Filed 6-13-06; 8:45 am]

BILLING CODE 4310-84-P